DEPARTMENT OF HEALTH AND HUMAN SERVICES

Centers for Disease Control and Prevention Y-12 Plant—Tennessee Eastman Corporation

AGENCY: Centers for Disease Control and Prevention (CDC), Department of Health and Human Services (HHS).

ACTION: Notice.

SUMMARY: The Department of Health and Human Services gives notice as required by 42 CFR 83.12(e) of a decision to evaluate a petition to designate a class of employees at the Y-12 Plant, also known as the Y-12 Plant—Tennessee Eastman Corporation, in Oak Ridge, Tennessee, to be included in the Special Exposure Cohort under the Energy Employees Occupational Illness Compensation Program Act of 2000. The initial proposed definition for the class being evaluated, subject to revision as warranted by the evaluation, is as follows:

Facility: Y-12 Plant—Tennessee Eastman Corporation.

Location: Oak Ridge, Tennessee.

Job Titles and/or Job Duties: All Tennessee Eastman Corporation employees that conducted laboratory equipment cleaning work.

Period of Employment: From 1943 through 1947.

FOR FURTHER INFORMATION CONTACT: Larry Elliott, Director, Office of Compensation Analysis and Support, National Institute for Occupational Safety and Health, 4676 Columbia Parkway, MS C-46, Cincinnati, OH 45226, Telephone 513-533-6800 (this is not a toll-free number). Information requests can also be submitted by e-mail to OCAS@CDC.GOV.

Dated: May 25, 2005.
James D. Seligman,
Associate Director for Program Services, Centers for Disease Control and Prevention.

[FR Doc. 05-11153 Filed 6-3-05; 8:45 am]

BILLING CODE 4163-01-P